DEPARTMENT OF COMMERCE

Minority Business Development Agency

[Docket No: 070503107-7108-01]

Solicitation of Applications for the North Carolina, New Mexico and Oklahoma Native American Business Enterprise Centers (NABECs)

AGENCY: Minority Business Development Agency, Commerce.

ACTION: Notice.

SUMMARY: In accordance with 15 U.S.C. 1512 and Executive Order 11625, the Minority Business Development Agency (MBDA) is soliciting competitive applications from organizations to operate a Native American Business Enterprise Center (NABEC) in the specified locations and geographical service areas (see SUPPLEMENTARY INFORMATION). The NABEC operates through the use of business consultants and provides a range of technical assistance services directly to Native American- and other minority-owned businesses. Responsibility for ensuring that applications in response to this competitive solicitation are complete and received by MBDA on time is the sole responsibility of the applicant. Applications submitted must be to operate a NABEC and to provide business consultation to eligible clients. Applications that do not meet these requirements will be rejected. This is not a grant program to help start an individual business.

DATES: The closing date for receipt of applications is Friday, June 15, 2007. Completed applications must be received by MBDA no later than 5 p.m. Eastern Daylight Savings Time (EDT) at the address below for paper submission or at www.Grants.gov for electronic submission. The due date and time is the same for electronic submissions as it is for paper submissions. The date that applications will be deemed to have been submitted electronically shall be the date and time received at Grants.gov. Applicants should save and print the proof of submission they receive from Grants.gov. Applications received after the closing date will not be considered. Anticipated time for processing is ninety (90) days from the date of publication of this notice. MBDA anticipates that awards for the North Carolina NABEC, New Mexico NABEC and the Oklahoma NABEC will be made with a start date of August 1, 2007.

Pre-Application Conference: In connection with this solicitation, a pre-application teleconference will be held on Friday, May 18, 2007. Participants must register at least 24 hours in advance of the teleconference. Please visit the MBDA Internet Portal at www.mbda.gov (MBDA Portal) for registration instructions. A copy of the MBDA panel evaluation tool and a summary of the questions and answers from the pre-application conference will be available through the MBDA Portal as soon as practicable following the conference.

ADDRESSES: (1a) Paper Submission—If Mailed: If the application is sent by postal mail or overnight delivery service by the applicant or its representative, one (1) signed original plus two (2) copies of the application must be submitted. Completed application packages must be mailed to: Office of Business Development—NABEC Program, Office of Executive Secretariat, HCHB, Room 5063, Minority Business Development Agency, U.S. Department of Commerce, 14th Street and Constitution Avenue, NW., Washington, DC 20230.

Applicants are advised that Department of Commerce mail security measures may delay receipt of United States Postal Service mail for up to two weeks. Applicants may wish to use a guaranteed overnight delivery service. Department of Commerce delivery policies for Federal Express, UPS, and DHL overnight services require the packages to be sent to the address above.

(1b) Paper Submission—If Hand-Delivered: If the application is hand-delivered by the applicant or his/her representative, one (1) signed original plus two (2) copies of the application must be delivered to: U.S. Department of Commerce, Minority Business Development Agency, Office of Business Development—NABEC Program (extension 1940), HCHB, Room 1874, Entrance #10, 15th Street, NW., Washington, DC (Between Pennsylvania and Constitution Avenues).

U.S. Department of Commerce “hand-delivery” policies state that Federal Express, UPS, and DHL overnight services submitted to the address listed above (Entrance #10) cannot be accepted. These policies should be taken into consideration when utilizing their services. MBDA will not accept applications that are submitted by the deadline but rejected due to Departmental hand-delivery policies. The applicant must adhere to these policies in order for his/her application to receive consideration for award.

(2) Electronic Submission: Applicants are encouraged to submit their proposal electronically at http://www.Grants.gov. Electronic submissions should be made in accordance with the instructions available at Grants.gov (see http://www.grants.gov/ForApplicants for detailed information). MBDA strongly recommends that applicants not wait until the application deadline date to begin the application process through Grants.gov, in some cases, the process for completing an online application may require 3-5 working days.

FOR FURTHER INFORMATION CONTACT: For further information, please visit MBDA's Minority Business Internet Portal at http://www.mbda.gov. Paper applications and Standard Forms (SF) may be obtained by contacting the MBDA National Enterprise Center (NEC) for the area where the Applicant is located (see Agency Contacts below) or by visiting the MBDA Portal at www.mbda.gov. Standard Forms 424, 424A, 424B can also be obtained at http://www.Grants.gov. Forms CD-511 and CD-346 may be obtained at www.doc.gov/forms. Form SF-LLL can be obtained at www.whitehouse.gov/omb/grants.

Agency Contacts:

1. Office of Business Development, 14th and Constitution Avenue, NW., Room 5075, Washington, DC 20230. Contact: Efrain Gonzalez, Program Manager at 202-482-1940.

2. Dallas National Enterprise Center (DNEC), 1100 Commerce Street, Room 726, Dallas, TX 75242. This region covers the states of Arkansas, Colorado, Louisiana, Montana, New Mexico, North Dakota, Oklahoma, South Dakota, Texas, Utah and Wyoming. Contact: John Iglehart, Regional Director, DNEC at 214-767-8001.

3. Atlanta National Enterprise Center (ANEC), 401 W. Peachtree Street, NW., Suite 1715, Atlanta, GA 30308. This region covers the states of North Carolina, Georgia, Alabama, Florida, Kentucky, Mississippi, South Carolina and Tennessee. It also covers Puerto Rico and the U.S. Virgin Islands. Contact: John Iglehart, Acting Regional Director, ANEC at 404-730-3300.

SUPPLEMENTARY INFORMATION:

Background

MBDA published a Federal Register notice on August 29, 2003 (68 FR 51981), as amended on September 30, 2003 (68 FR 56267), February 11, 2004 (69 FR 6644) and February 19, 2004 (69 FR 7726), soliciting competitive applications for operators of the following eight NABDCs (now NABECs): Arizona Statewide NABDC, California Statewide NABDC, Minnesota/Iowa Statewide NABDC, New Mexico Statewide NABDC, North Carolina/Cherokee/Ashville NABDC, North/South Dakota Statewide NABDC, Northwest NABDC and the Oklahoma Statewide NABDC. This competition resulted in financial assistance awards (cooperative agreements) being issued for all eight locations, with a three-year award period of January 1, 2004 through December 31, 2006.

On September 6, 2006, MBDA published a Federal Register notice (71 FR 52529) soliciting competitive applications for operators of four regional NABECs (in place of the eight prior NABECs) for the next three-year award period commencing January 1, 2007. However, on October 25, 2006, MBDA published a Federal Register notice (71 FR 62420) (i) cancelling the September 6, 2006 solicitation and (ii) amending the original competitive solicitation to extend the total project award period for all eight of the original NABECs from three years to four years. MBDA took these actions in order to provide the Agency with a sufficient opportunity to solicit input from its stakeholders regarding any proposed program changes to be implemented during the next three-year award period. Operators of five of the eight NABECs accepted MBDA's invitation to extend the original award period for an additional year, while the operators of the North Carolina/Ashville/Cherokee NABEC, New Mexico Statewide NABEC and Oklahoma Statewide NABEC declined MBDA's invitation.

This Notice solicits competitive applications for the North Carolina NABEC, New Mexico NABEC and the Oklahoma NABEC. This Notice replaces in its entirety the previously published competitive solicitation for the North Carolina NABEC, New Mexico NABEC and Oklahoma NABEC projects, although it generally adheres to previous programmatic requirements with updates being made to the computer requirements.

Geographic Service Areas

The NABEC will be located and will provide services in the following geographic areas:

NABEC name | Location of NABEC | Geographic service area
North Carolina NABEC | Cherokee/Asheville, Charlotte, Lumberton or Pembroke, NC | State of North Carolina.
New Mexico NABEC | Albuquerque, Farmington or Gallup, NM | State of New Mexico.
Oklahoma NABEC | Oklahoma City or Tulsa, OK | State of Oklahoma.

Electronic Access

A link to the full text of the Announcement of Federal Funding Opportunity (FFO) for this solicitation may be accessed at http://www.Grants.gov, at http://www.mbda.gov, or by contacting the appropriate MBDA representative identified above. The FFO contains a full and complete description of the NABEC Program requirements. In order to receive proper consideration, applicants must comply with all information and requirements contained in the FFO. Applicants will be able to access, download and submit electronic grant applications for the NABEC Program in this announcement at http://www.Grants.gov. MBDA strongly recommends that applicants not wait until the application deadline date to begin the application process through Grants.gov as in some cases the process for completing an online application may require additional time (e.g., 3-5 working days). The date that applications will be deemed to have been submitted electronically shall be the date and time received at Grants.gov. Applicants should save and print the proof of submission they receive from Grants.gov. Applications received after the closing date and time will not be considered.

Funding Priorities

Preference may be given during the selection process to applications which address the following MBDA funding priorities:

( a) Applicants who submit proposals with a scope of work for the project exceeding the minimum work requirements in the FFO;

(b) Applicants who submit proposals that include performance goals that exceed the minimum performance goal requirements in the FFO; or

(c) Applicants who demonstrate an innovative approach (consistent with overall NABEC program requirements) to limit barriers to market and capital access for Native American- and other eligible minority-owned businesses.

Funding Availability

MBDA anticipates that a total of approximately $611,000 will be available in FY 2007 for financial assistance awards under this competition. Specific funding levels for the North Carolina NABEC, New Mexico NABEC and Oklahoma NABEC are set forth in the below table. The anticipated start date for all awards under this competition is August 1, 2007 and the total award period is anticipated to be twelve (12) months (e.g., August 1, 2007 through July 31, 2008). The maximum Federal funding amount for each NABEC project is as follows:

Project name | August 1, 2007 through July 31, 2008: Estimated program cost | August 1, 2007 through July 31, 2008: Federal share | August 1, 2007 through July 31, 2008: Non-Federal share *
North Carolina NABEC | $188,000 | $188,000 | N/A
New Mexico NABEC | 188,000 | 188,000 | N/A
Oklahoma NABEC | 235,000 | 235,000 | N/A
* Encouraged, but not required.

Publication of this notice does not obligate the Department of Commerce or MBDA to award any specific cooperative agreement or to obligate all or any part of available funds.

Authority: Executive Order 11625 and 15 U.S.C. 1512.

Catalog of Federal Domestic Assistance (CFDA): 11.801, Native American Business Enterprise Centers.

Eligibility

For-profit entities (including sole-proprietorships, partnerships, and corporations), non-profit organizations, state and local government entities, American Indian Tribes, and educational institutions are eligible to operate NABECs.

Program Description

MBDA is soliciting competitive applications from organizations to operate Native American Business Enterprise Centers (formerly known as Native American Business Development Centers) (NABDC)) under its Native American Business Enterprise Center (NABEC) Program. The NABEC will operate through the use of trained professional business consultants who will assist Native American and other minority entrepreneurs through direct client engagements. Entrepreneurs eligible for assistance under the NABEC Program are Native Americans, Eskimos, African Americans, Puerto Ricans, Spanish-speaking Americans, Aleuts, Asian Pacific Americans, Asian Indians and Hasidic Jews. References throughout this notice regarding a NABEC's provision of services and assistance to Native American clients also includes the eligible non-Native American clients listed in the preceding sentence. No service may be denied to any member of the eligible groups listed above.

The NABEC Program requirements increase the impact of the project by requiring that project operators deploy standardized business assistance services to the Native American and minority business public directly, develop a network of strategic partnerships and provide strategic business consulting within the geographic service area. These requirements will be used to generate increased results with respect to financing and contracts awarded to Native American and minority-owned firms and thus, are a key component of this program.

The NABEC Program also incorporates an entrepreneurial approach to building market stability and improving quality of services delivered. This strategy expands the reach of the NABECs by requiring project operators to develop and build upon strategic alliances with public and private sector partners, as a means of reaching out and serving Native American and minority-owned firms with rapid growth potential within the project's geographic service area. The NABEC Program leverages the full benefit of telecommunications technology, including the Internet and a variety of online computer-based resources, to dramatically increase the level of service that the NABECs provide to Native American and minority-owned firms. In addition, MBDA will establish specialized advanced programs for growth assistance to clients with the capacity to grow and expand. These programs are designed to foster growth assistance for its clients. The NABEC will also encourage collaboration and referrals of clients and non-clients that meet the requirements of these specialized programs and other MBDA sponsored networks. This will provide a comprehensive approach to serving the emerging sector of the Native American business community.

MBDA's new strategic growth initiative is focused on serving emerging Native American and minority firms capable of impacting economic growth and employment. MBDA wants to ensure that NABEC clients are receiving a consistent level of service throughout its funded network. To that end, MBDA will require NABEC consultants to attend a series of training courses designed to achieve standardized services and quality expectations.

Please refer to the FFO for this competitive solicitation for additional programmatic information.

Match Requirements

It is not required that an applicant for a NABEC award propose a non-Federal cost share contribution. An applicant may, however, propose a cost-share contribution in any of the following four means or in any combination thereof: (1) Client fees; (2) cash contributions; (3) non-cash applicant contributions; and/or (4) third party in-kind contributions. The NABEC may (but is not required to) charge client fees for services rendered. Client fees (if imposed) shall be used towards meeting cost share requirements and must be used in furtherance of the program objectives. Applicants will be awarded up to five (5) bonus points to the extent that the proposed project budget includes a non-Federal cost-share contribution, measured as a percentage of the overall project budget (see Evaluation Criteria below).

Evaluation Criteria

Applications will be evaluated and selected for funding based on the following criteria. An application must receive at least 70% of the total points available for each evaluation criterion, in order for the application to be considered for funding. The maximum number of total points for each evaluation criterion is provided below. The number of points assigned to each evaluation criterion will be determined on a competitive basis by the MBDA review panel based on the quality of the application with respect to each criterion. The maximum total of points that can be earned is 105, including a maximum of five (5) bonus points for applications proposing a non-federal cost share.

1. Applicant Capability (45 Points)

The applicant's proposal will be evaluated with respect to the applicant firm's experience and expertise in providing the work requirements listed. Specifically, the proposals will be evaluated as follows:

• Native American Community—experience in and knowledge of the Native American and minority business sector and strategies for enhancing its growth and expansion (5 points);

• Business Consulting—experience in and knowledge of business consulting of Native American and minority firms (10 points);

• Financing—experience in and knowledge of the preparation and formulation of successful financial transactions (5 points);

• Procurements and Contracting—experience in and knowledge of the public and private sector contracting opportunities for Native American and minority businesses (5 points);

• Financing Networks—resources and professional relationships within the corporate, banking and investment community that may be beneficial to Native American and minority-owned firms (5 points);

• Native American Advocacy—experience and expertise in advocating on behalf of Native American businesses, both as to specific transactions in which a Native American business seeks to engage, and as to broad market advocacy for the benefit of the Native American community at large (5 points); and

• Key Staff—assessment of the qualifications, experience and proposed role of staff who will operate the NABEC. In particular, an assessment will be made to determine whether proposed staff possesses the expertise in utilizing information systems as contemplated under the heading entitled, “Computer Requirements” (10 points).

2. Resources (20 Points)

The applicant's proposal will be evaluated according to the following criteria:

• Resources—discuss those resources (not included as part of the cost-sharing arrangement) that will be used (10 points);

• Partners—discuss how you plan to establish and maintain the network of five (5) Strategic Partners (5 points);

• Equipment—discuss how you plan to accomplish the computer hardware and software requirements (5 points).

3. Techniques and Methodologies (25 Points)

The applicant's proposal will be evaluated as follows:

• Performance Measures—relate each performance measure to the financial, information and market resources available in the geographic service area to the applicant and how the performance goals will be met. Specific attention should be placed on the Dollar Value of Transactions. This goal represents the sum of (a) Dollar Value of Financial Transactions and (b) Dollar Value of Gross Receipts. Dollar Value of Transactions, Dollar Value of Financial Transactions and Dollar Value of Gross Receipts are defined in Section I.F. of the FFO under Performance Measures. When proposing the minimum goal under Dollar Value of Transactions, the applicant is given the flexibility to address the percentage breakdown for items (a) and (b) above within a specific range—not more than 60% and not less than 40%. The applicant should consider existing market conditions and its strategy to achieve the goal. The applicant may vary the percentage breakdown for items (a) and (b) above as long as the sum meets the required performance goal as provided in the FFO (15 points);

• Plan of Action—provide specific detail on how the applicant will start operations. NABECs have thirty (30) days to become fully operational after an award is made. Fully operational means that all staff are hired, all signs are up, all items of furniture and equipment are in place and operational, all necessary forms are developed (e.g., client engagement letters, other standard correspondence, etc.), and the center is ready to open its doors to the public (5 points);

• Work Requirement Execution Plan—The applicant will be evaluated on how effectively and efficiently all staff time will be used to achieve the work requirements (5 points).

4. Proposed Budget and Supporting Budget Narrative (10 Points)

The applicant's proposal will be evaluated on the following sub-criteria:

• Reasonableness, allowability and allocability of costs. All of the proposed expenditures must be discussed and the budget line item narrative must match the proposed budget. Fringe benefits and other percentage item calculations must match the proposed budget line-item (5 points); and

• Performance Based Budget. Discuss how the budget is related to the accomplishment of the work requirements and the performance measures. Provide a budget narrative that clearly shows the connections (5 points).

Bonus for Non-Federal Cost Sharing (maximum of 5 points): Non-Federal cost sharing is not required under the NABEC program. However, applicants will be awarded bonus points to the extent that the proposed overall project budget includes non-Federal contributions, measured as a percentage of the overall project budget (i.e., Federal and non-Federal shares). Specifically, a maximum of five (5) bonus points will be awarded based on the following scale: more than 0—less than 5%—1 point; 5% or more—less than 10%—2 points; 10% or more—less than 15%—3 points; 15% or more—less than 20%—4 points; and 20% or more—5 points. The non-Federal contributions (if proposed) may consist of one or more of the following: (1) Client fees; (2) cash contributions; (3) non-cash applicant contributions; and/or (4) third party in-kind contributions, and must be adequately identified and documented in the application

Review and Selection Process

1. Initial Screening—Prior to the formal paneling process, each application will receive an initial screening to ensure that all required forms, signatures and documentation are present.

2. Panel Review—Each application will receive an independent, objective review by a panel qualified to evaluate the applications submitted. MBDA anticipates that the review panel will be made up of at least three independent reviewers who are Federal employees who will review all applications based on the above evaluation criteria. Each reviewer will evaluate and provide a score for each proposal. In order for an application to be considered for funding, it shall need to achieve 70% of the available points for each evaluation criterion. Failure to achieve the minimum required points will deem the application as unsuccessful.

3. Final Recommendation—The MBDA National Director makes the final recommendation to the Department of Commerce Grants Officer regarding the funding of applications, taking into account the selection criteria as outlined in this notice and the following:

A. Evaluations and rankings of the independent review panel;

B. Funding Priorities. The National Director (or his designee) reserves the right to conduct a site visit (subject to the availability of funding) to applicant organizations receiving at least 70% of the total points available for each evaluation criterion, in order to make a better assessment of the organization's capability to achieve the funding priorities for this competition; and

C. Availability of funding.

Intergovernmental Review

Applications under this program are not subject to Executive Order 12372, “Intergovernmental Review of Federal Programs.”

Limitation of Liability

In no event will the Department of Commerce or MBDA be responsible for proposal preparation costs if this program is cancelled because of other Agency priorities. Publication of this announcement does not oblige the Department of Commerce or MBDA to award any specific project or to obligate any available funds.

Universal Identifier

Applicants should be aware that they will be required to provide a Dun and Bradstreet Data Universal Numbering system (DUNS) number during the application process. See the June 27, 2003 Federal Register notice (68 FR 38402) for additional information. Organizations can receive a DUNS number at no cost by calling the dedicated toll-free DUNS Number request line at 1-866-705-5711 or by accessing the Grants.gov Web site at http://www.Grants.gov.

Department of Commerce Pre-Award Notification Requirements for Grants and Cooperative Agreements

The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424, 424A, 424B, SF-LLL, and CD-346 have been approved by OMB under the respective control numbers 0348-0043, 0348-0044, 0348-0040, 0348-0046, and 0605-0001. Notwithstanding any other provisions of law, no person is required to respond to, nor shall any person be subject to a penalty for failure to comply with a collection of information subject to the Paperwork Reduction Act unless that collection displays a currently valid OMB Control Number.

Executive Order 12866

This notice has been determined to be not significant for purposes of E.O. 12866.

Administrative Procedure Act/ Regulatory Flexibility Act

Prior notice and an opportunity for public comment are not required by the Administrative Procedure Act for rules concerning public property, loans, grants, benefits, or contracts (5 U.S.C. 533(a)(2)). Because notice and opportunity for comment are not required pursuant to 5 U.S.C. 533 or any other law, the analytical requirements of the Regulatory Flexibility Act (5 U.S.C 601 et seq.) are inapplicable. Therefore, a regulatory flexibility analysis is not required and has not been prepared.

Dated: May 8, 2007.
Ronald N. Langston,
National Director, Minority Business Development Agency.

[FR Doc. E7-9096 Filed 5-10-07; 8:45 am]

BILLING CODE 3510-21-P